DEPARTMENT OF HEALTH AND HUMAN SERVICES

Centers for Disease Control and Prevention

Disease, Disability, and Injury Prevention and Control Special Emphasis Panel: Intervention Research Grants To Promote the Health of People With Disabilities, Program Announcement #03029

In accordance with section 10(a)(2) of the Federal Advisory Committee Act (Pub. L. 92-463), the Centers for Disease Control and Prevention (CDC) announces the following meeting:

Name: Disease, Disability, and Injury Prevention and Control Special Emphasis Panel (SEP): Intervention Research Grants to Promote the Health of People with Disabilities, Program Announcement #03029.

Times and Dates: 9 a.m.-9:50 a.m., June 29, 2003. (Open). 9:50 a.m.-5:15 p.m., June 29,2003. (Closed). 8:30 a.m.-3 p.m., June 30, 2003. (Closed).

Place: Atlanta Airport Marriott, 4711 Best Friend Road, College Park, GA 30337, Telephone (404) 766-7900.

Status: Portions of the meeting will be closed to the public in accordance with provisions set forth in section 552b(c) (4) and (6), Title 5 U.S.C., and the Determination of the Director, Management Analysis and Services Office, CDC, pursuant to Public Law 92-463.

Matters To Be Discussed: The meeting will include the review, discussion, and evaluation of applications received in response to Program Announcement #03029.

Contact Person for More Information: Hani Atrash, M.D., Associate Director for Program Development, National Center on Birth Defects and Developmental Disabilities, CDC, 4770 Buford Highway, MS-F34, Atlanta, GA 30341, Telephone (770) 488-7150.

The Director, Management Analysis and Services Office, has been delegated the authority to sign Federal Register notices pertaining to announcements of meetings and other committee management activities, for both Centers for Disease Control and Prevention and the Agency for Toxic Substances and Disease Registry.

Dated: May 27, 2003.
Alvin Hall,
Director, Management Analysis and Services Office, Centers for Disease Control and Prevention (CDC).

[FR Doc. 03-14272 Filed 6-5-03; 8:45 am]

BILLING CODE 4163-19-P